DEPARTMENT OF TRANSPORTATION

National Highway Traffic Safety Administration

49 CFR Part 575

[Docket No. NHTSA-2006-25772]

New Car Assessment Program (NCAP); Safety Labeling

AGENCY: National Highway Traffic Safety Administration (NHTSA), Department of Transportation (DOT).

ACTION: Final rule; technical amendments; response to petitions for reconsideration.

SUMMARY: A provision of the Safe, Accountable, Flexible, Efficient Transportation Equity Act: A Legacy for Users requires new passenger vehicles to be labeled with safety rating information published by the National Highway Traffic Safety Administration under its New Car Assessment Program. NHTSA was required to issue regulations to ensure that the labeling requirements “are implemented by September 1, 2007.” In September 2006, we published a final rule to fulfill that mandate. We received petitions for reconsideration of the final rule. Today's document responds to those petitions and makes technical amendments clarifying certain details of the presentation of the information on the labels.

DATES: Effective Date: This final rule is effective October 12, 2007.

Compliance Date: This final rule applies to covered vehicles manufactured on or after September 1, 2007. Optional early compliance by vehicle manufacturers is permitted before that date.

Petitions for reconsideration: Petitions for reconsideration of this final rule must be received not later than September 27, 2007.

ADDRESSES: Petitions for reconsideration of the final rule must refer to the docket number set forth above and be submitted to: Administrator, National Highway Traffic Safety Administration, 1200 New Jersey Avenue, SE., Washington, DC 20590. In addition, a copy of the petition should be submitted to: Docket Management, Room W12-140, 1200 New Jersey Avenue, SE., Washington, DC 20590.

FOR FURTHER INFORMATION CONTACT: For technical issues regarding the information in this document, please contact Mr. Nathaniel Beuse at (202) 366-1740. For legal issues, please contact Ms. Dorothy Nakama (202) 366-2992. Both of these individuals may be reached by mail at the National Highway Traffic Safety Administration, 1200 New Jersey Avenue, SE., Washington, DC 20590.

SUPPLEMENTARY INFORMATION:

Table of Contents

I. Overview of SAFETEA-LU Labeling Provisions and September 2006 Final Rule

II. Petitions for Reconsideration and NHTSA's Response

A. Definition of “Automobile”

B. Requirements for Altered Vehicles

III. Technical Adjustments to the Regulatory Text Related to the Labels

A. Large Safety Label Shown in Figure 1

B. Small Safety Label Shown in Figure 2

IV. Rulemaking Notices and Analyses

Regulatory Text

I. Overview of SAFETEA-LU Labeling Provisions and September 2006 Final Rule

Section 10307 of the Safe, Accountable, Flexible, Efficient Transportation Equity Act: A Legacy for Users (SAFETEA-LU) ¹ requires that each new passenger automobile that has been rated under the NHTSA's New Car Assessment Program (NCAP) must have those ratings displayed on a label on its new vehicle price sticker, known as the Monroney label.² SAFETEA-LU specifies detailed requirements for the label, including its content, size, location, and applicability, leaving the agency only limited discretion regarding the label.³ It also required NHTSA (by delegation of authority from the Department of Transportation) to issue regulations to ensure that the new labeling requirements are implemented by September 1, 2007.

¹ P.L. 109-59 (August 10, 2005); 119 Stat. 1144.

² The Monroney label is required by the Automobile Information Disclosure Act (AIDA) Title 15, United States Code, Chapter 28, Sections 1231-1233. SAFETEA-LU amended AIDA to require that NCAP ratings be placed on each vehicle required to have a Monroney label.

³ “(g) if one or more safety ratings for such automobile have been assigned and formally published or released by the National Highway Traffic Safety Administration under the New Car Assessment Program, information about safety ratings that—

“(1) includes a graphic depiction of the number of stars, or other applicable rating, that corresponds to each such assigned safety rating displayed in a clearly differentiated fashion indicating the maximum possible safety rating;

“(2) refers to frontal impact crash tests, side impact crash tests, and rollover resistance tests (whether or not such automobile has been assigned a safety rating for such tests);

“(3) contains information describing the nature and meaning of the crash test data presented and a reference to additional vehicle safety resources, including http://www.safecar.gov; and

“(4) is presented in a legible, visible, and prominent fashion and covers at least—

“(A) 8 percent of the total area of the label; or

“(B) an area with a minimum length of 4½ inches and a minimum height of 3½ inches; and

“(h) if an automobile has not been tested by the National Highway Traffic Safety Administration under the New Car Assessment Program, or safety ratings for such automobile have not been assigned in one or more rating categories, a statement to that effect.”.

As required by SAFETEA-LU, on September 12, 2006 (71 FR 53572) (DOT Docket No. NHTSA-2006-25772) we published a final rule that provides that:

(1) New passenger automobiles manufactured on or after September 1, 2007 must display specified NCAP information on a safety rating label that is part of their Monroney label;

(2) The specified information must include a graphical depiction of the number of stars achieved by a vehicle for each safety test;

(3) Information describing the nature and meaning of the test data, and references to www.safercar.gov and NHTSA's toll-free hotline number for additional vehicle safety information, must be placed on the label;

(4) The label must be legible with a minimum length of 4½ inches and a minimum width of 3½ inches or 8 percent of the Monroney label, whichever is larger;

(5) Ratings must be placed on new vehicles manufactured 30 or more days after the manufacturer receives notification from NHTSA of NCAP ratings for those vehicles.

In its discretion, the agency decided to require that the label indicate the existence of safety concerns identified during NCAP testing, but not reflected in the resulting NCAP ratings. We required that the agency's toll-free hotline number appear on the label and adopted specifications for such matters as the wording, arrangement of some of the messages and the size of the font.

II. Petitions for Reconsideration and NHTSA's Response

In response to the September 12, 2006 final rule, we received a petition for reconsideration from the Recreation Vehicle Industry Association (RVIA), asking us to reconsider the inclusion of “recreational vehicle” in the definition of “automobile.” A joint petition signed by the National Automobile Dealers Association (NADA), the National Truck Equipment Association (NTEA) and the National Mobility Equipment Dealers Association (NMEDA) asked us to reconsider the requirement of an additional label for automobiles that are altered before first sale to the customer. The issues raised in the petitions and NHTSA's response are provided below.

A. Definition of “Automobiles”

Per SAFETEA-LU, this final rule applies to all vehicles required to have Monroney labels. Those labels are required on new “automobiles” by the Automobile Information Disclosure Act (AIDA) and derive their name from the primary author of AIDA, former Senator Mike Monroney. The Department of Justice (DOJ), which generally administers AIDA, interprets the term “automobiles,” by definition, to include passenger vehicles and station wagons, and, by extension, passenger vans. For purposes of the final rule, we decided to express the applicability section of the regulation by reference to AIDA and language based on the DOJ guidance, rather than referring to terms as used in § 571.3 for safety standards. Specifically, the regulatory text states that the section applies to “automobiles with a GVWR of 10,000 pounds or less, manufactured on or after September 1, 2007, that are required by the Automobile Information Disclosure Act, 15 U.S.C. 1231-1233, to have price sticker labels (Monroney labels), e.g., passenger vehicles, station wagons, passenger vans, sport utility vehicles, and recreational vehicles.”

We explained that this approach was adopted because Congress made the applicability of the NCAP labeling requirement depend on whether a vehicle is an “automobile” required to have a Monroney label under AIDA. The DOJ, rather than NHTSA, administers and issues authoritative interpretations of that part of AIDA. Thus, while we want our regulation to be as clear as possible, we recognize that it is DOJ, rather than NHTSA, that would make any necessary interpretations under AIDA as to the meaning of “automobile.”

In response to the final rule, the Recreation Vehicle Industry Association (RVIA) petitioned for the removal of the term “recreational vehicles” from the definition of “automobile.” RVIA included with its petition a letter dated October 30, 2006 to Ms. Dianne Farrell, RVIA's Vice President of Government Affairs from, Mr. Eugene M. Thirolf, Director, Office of Consumer Litigation, DOJ. In that letter, Mr. Thirolf explained that language on the Office of Consumer Litigation's Web page had referred to “recreational vehicles” as being encompassed within the definition of “automobile.” That phrase was incorporated from printed material that pre-dated the Web page by many years. Mr. Thirolf noted that the phrase “recreational vehicle” can have a variety of meanings. He stated that in recent years, the term “Sport Utility Vehicle” has become commonplace, and has displaced “recreational vehicle” as the term used to refer to certain vehicles that are now called Sport Utility Vehicles or “SUVs.” Mr. Thirolf noted that the Office of Consumer Litigation's Web page has been rewritten to include the term “Sport Utility Vehicles” and remove “recreational vehicle.”

Since NHTSA has already stated that it will conform its definition of “automobile” to that provided by DOJ, and DOJ has removed the term “recreational vehicle” from the definition of “automobile” and added the term “sport utility vehicle” on the DOJ Web page, in this final rule, NHTSA will make conforming changes in the definition of “automobile” at § 575.301(b).

RVIA also asked for NHTSA to publish “a statement that declares invalid any mention of ‘recreational vehicles’ which previously appeared in its Final Rule.” We decline to make such a statement. Our references to “recreational vehicles” were made in the context of DOJ's use of the term. The October 2006 letter from Mr. Thirolf of DOJ provides clarification of how DOJ used the term, and its subsequent decision to remove that term from its Web site and add the term “sport utility vehicle.” In today's final rule, we have provided RVIA with the relief it sought, consistent with DOJ's October 30, 2006 letter.

B. Requirements for Altered Vehicles

In the September 12, 2006 final rule, we noted that the National Mobility Equipment Dealers Association (NMEDA) asked that “the proposed labeling requirements not apply to * * * altered vehicles, including those that have been altered in such a manner as to render void any previous NCAP results.” NMEDA is an association “dedicated to providing safe and quality adaptive transportation and mobility for consumers with disabilities.” To accommodate special needs drivers, NMEDA members (and others) may make vehicle alterations that require affixing an alterer's label to the vehicle pursuant to 49 CFR 567.7, “Requirements for persons who alter certified vehicles.”

In the September 12, 2006 final rule, NHTSA agreed that in such cases, the continuing applicability of ratings on the safety rating label may be at issue. We therefore decided that if an alterer places a § 567.7 alterer's label on a vehicle with a safety rating label, the alterer must place another label (adjacent to the Monroney label) stating: “This vehicle has been altered. The stated star ratings on the safety rating label may no longer be applicable.” The new requirements are specified at § 575.301(g) Labels for alterers.

In a joint petition for reconsideration, NMEDA, NADA and the NTEA asked that we remove § 575.301(g). The joint petitioners' position appeared to be that often, the alterations made to a vehicle are relatively minor (e.g., star ratings for side impact would not be affected if the alteration involves changes to the rear lighting), and the § 575.301(g) label may give the impression to some customers that the alterations are likely to result in the vehicle's receiving a lesser safety rating.

We note that § 567.6 makes it clear that minor finishing operations or the addition or removal of rims and tires, mirrors, or other readily attachable components would not necessitate the placement of an alterer's label. The intent of the label specified by § 575.301(g) is to inform potential purchasers of altered vehicles that if the vehicle has been altered in such a way as to require an alterer's label, the NCAP safety ratings may no longer be applicable.

We are concerned that without the § 575.301(g) label, consumers would assume that altered vehicles would continue to have the same performance as the model tested by NHTSA in the NCAP safety assessment tests. However, some alterations may affect the NCAP safety ratings and, in such situations, the NCAP ratings could be misleading. The statement that the stated star ratings “may no longer be applicable” is neutral, i.e., it does not imply a likelihood of the vehicle having a lower rating.

The joint petitioners stated that NHTSA should not add this requirement that could further obstruct the driver's vision during test drives. In response, although we appreciate the field of obstruction concern, we did not specify a size or font requirement for the § 575.301(g) label in order to minimize any additional obstruction of vehicle glazing. The requirement is only that the label be placed adjacent to the Monroney label; we purposefully did not specify where that would be. Therefore, alterers can place the § 575.301(g) label adjacent to, or as close as possible to, the Monroney label but in an area such as the bottom of the window that would not obstruct the vision of a driver taking the vehicle out on a test drive.

The joint petitioners also stated that the § 575.301(g) requirements are redundant, as consumers are already aware of the alterations or request the alterations prior to purchasing the vehicle. NHTSA notes that while this may be true in some cases, we have no data to support this statement, and none was provided by the joint petitioners. Moreover, even if they are aware of alterations, consumers may believe the star ratings are still valid, even in situations when this may not be the case. We note that while alterers must certify that the vehicle continues to meet safety standards, they are not required to ensure that alterations do not affect NCAP ratings.

The joint petitioners stated that the Monroney label as required by the AIDA is only for vehicles as manufactured, but not neccessarily as sold at dealerships. NHTSA does not agree. In the NPRM, NHTSA proposed to state at § 575.301(a) Purpose and Scope in part that, “* * * the additional Monroney label information is intended to provide consumers with relevant information at the point of sale.” (Emphasis added.) No commenter (including any of the joint petitioners) objected to, or otherwise commented on the quoted language. Thus, the quoted language was made final in the final rule.

On the issue of AIDA requirements, NHTSA consulted with the Department of Justice's (DOJ) Office of Consumer Litigation, the authority on the meaning of AIDA. On December 4, 2006, DOJ staff confirmed with NHTSA staff that they would not try to make a distinction between vehicles as manufactured and as sold at dealerships, as it was, in the view of the DOJ staff, contrary to the AIDA.

The joint petitioners further stated that the AIDA never imposed on dealers or others who alter vehicles prior to first sale, any additional labeling burden. However, with the enactment of SAFETEA-LU, we believe the additional labeling is needed to ensure that consumers who consider purchasing or who purchase altered vehicles are aware that first, alterations have been made and second, that the alterations may have made the star ratings no longer applicable. We note that because it would be far more burdensome for alterers to determine and explain how alterations may affect the star ratings, we decided on the standard language specified in § 575.301(g) simply indicating that the ratings may no longer be applicable.

The joint petitioners stated that neither the legislative history nor Section 10307 of SAFETEA-LU addresses vehicle alteration or vehicle alterers. They also argued the § 575.301(g) requirement was not a logical outgrowth of the notice of proposed rulemaking and violates the Administrative Procedure Act and NHTSA's own rulemaking process.

In response, NHTSA notes that the rulemaking at issue was necessary to “aid potential purchasers in the selection of new passenger motor vehicles by providing them with safety rating information. * * * Manufacturers of passenger motor vehicles described in paragraph (b) of this section are required to include this information on the Monroney label.” (see § 575.301(a).) 49 CFR part 567 includes alterers within the definition of manufacturer (See § 567.2(a)). Since § 575.301 applies to manufacturers, it applies to alterers. The final rule's clarification of requirements for all manufacturers, including alterers, is not outside the scope of the rule.

Furthermore, the addition of § 575.301(g) to the final rule is a logical outgrowth of the proposal. We note § 575.301(g) was added to the final rule in response to NMEDA's comments on the January 30, 2006 NPRM. We believe it was necessary and appropriate to address the issue of how requirements apply to alterers, and to ensure that the NCAP ratings on the label do not provide misleading information to consumers.

In commenting on the NPRM, NMEDA asked that “the proposed labeling requirements not apply to vehicles built in two or more stages or to altered vehicles including those that have been altered in such a manner as to render void any previous NCAP results.” NMEDA did not specify how its request should be carried out. In the final rule, we responded to NMEDA's comment by not making the safety ratings necessarily apply to altered vehicles, by specifying adding the label (stating in part) “The stated star ratings on the safety rating label may no longer be applicable.” In the final rule, NHTSA determined that the addition of the label with the stated quotation was the best way to respond to NMEDA's comment. It was a logical outgrowth of the proposal, which responded to NMEDA's comment, clarified final rule requirements for all manufacturers, including alterers, and continued to make the §§ 575.301(d) and (e) requirements applicable to manufacturers that are not alterers.

The joint petitioners also stated that neither the § 575.301(g) mandate nor the potential regulatory burden was taken into consideration by NHTSA in its E.O. 12866, Regulatory Flexibility Act, or Paperwork Reduction Act analyses. The joint petitioners stated that assuming 10 percent of the vehicle fleet would require the § 575.301(g) label at a cost of $1.00 per label results in a $1,500,000 cost burden. In response, NHTSA notes that the joint petitioners provided no bases for their assumptions regarding costs. We do not agree with these estimates. Based on a previous agency study that examined labeling costs,⁴ we expect that the cost of a label would be $0.09 to $0.16 per vehicle (in 2006 dollars). Even with the 10 percent alteration rate, as assumed by the joint petitioners, the expected total cost burden would be far less than what the petitioners claimed. We believe that the cost burden would not have a significant economic impact on alterers.

⁴ See Preliminary Regulatory Evaluation, FMVSS No. 208, Actions to Reduce the Adverse Effects of Air Bags, July 1996.

The Paperwork Reduction Act consequences of the label specified at § 575.301(g) were discussed in the final rule of September 12, 2006 at page 53585.

The joint petitioners also suggested that in lieu of the § 575.301(g) label, NHTSA consider amending the “safety label”⁵ with the disclaimer: “Crash test results reflect the actual vehicle tested and are designed for general model comparison purposes only. The actual vehicle you buy may not achieve the exact same results in a similar test.”

⁵ NHTSA assumes the joint petitioners meant the safety rating label specified at Sections 575.301(d) and (e).

We decline to make this change. The petitioners did not provide any basis for including such a disclaimer on all vehicles. The § 575.301(g) label is narrowly tailored to inform potential purchasers of the very small number of vehicles that have been altered in such a way as to require an alterer's label that the NCAP safety ratings may no longer be applicable. It would be inappropriate to address this concern by adding a disclaimer to all vehicles.

The petitioners also suggested that NHTSA provide clarification with respect to when a first sale occurs in various situations, to enable the regulated community to be able to distinguish alterations from modifications. We note that this is a general issue and not one specifically related to this rulemaking. If petitioners have specific questions in this area, they may send them to NHTSA's Chief Counsel.

III. Technical Amendments to Regulatory Text Describing the Labels

In this final rule, we also make the following technical amendments to descriptions of the labels, to ensure consistency among the preamble, the regulatory text, and Figures 1 and 2 provided in the final rule. No changes are made to either Figure 1 or Figure 2 as a result of this final rule.

A. Large Safety Label Shown in Figure 1

1. We note that the height of the safety concern is not specified. In this final rule, NHTSA specifies superscript for both the safety concern symbol next to the star rating to which it applies and in the explanation section of the label. This is how the graphic is displayed in the sample label and how it is now specified at Section 301(e)(10)(ii) of the regulatory text.

2. We note the following inconsistencies between the sample label (Figure 1 to § 575.301) and the regulatory text:

(a) The regulatory text describing how the “Driver”/“Passenger” and “Front Seat/Rear Seat” should be positioned on the label is incorrect. As currently stated, the text would run into the stars on the label graphic. Therefore, we are revising the regulation to require the text to be left justified and horizontally centered, and to be vertically aligned at the top and middle of the label, respectively, for front and side crash ratings. Similarly, the star ratings are to be left justified, but aligned to the right of the label. In addition, the regulatory text for “Front Seat” and “Rear Seat” will not include a capitalized “S”, consistent with the label depicted in Figure 1. In this final rule, § 575.301, paragraphs (e)(4)(iii), (e)(4)(v), and (e)(5)(iii), and (e)(5)(v) will be revised to read as follows:

Section 575.301(e)(4)(iii)—The word “Driver” must be on the same line as the word “Frontal” in “Frontal Crash”, and be left justified, horizontally centered and vertically aligned at the top of the label. The achieved star rating for “Driver” must be on the same line, left justified, and be aligned to the right side of the label.

Section 575.301(e)(4)(v)—The word “Passenger” must be on the same line as the word “Crash” in “Frontal Crash” , below the word “Driver”, and be left justified, horizontally centered and be vertically aligned at the top of the label. The achieved star rating for “Passenger” must be on the same line, left justified, and be aligned to the right side of the label.

Section 575.301(e)(5)(iii)—The words “Front seat” must be on the same line as the word “Side” in “Side Crash” and be left justified, horizontally centered and be vertically aligned in the middle of the label. The achieved star rating for “Front seat” must be on the same line, left justified, and be aligned to the right side of the label.

Section 575.301(e)(5)(v)—The words “Rear seat” must be on the same line as the word “Crash” in “Side Crash”, below the word “Front seat” and be left justified, horizontally centered and be vertically aligned in the middle of the label. The achieved star rating for “Rear seat” must be on the same line, left justified, and be aligned to the right side of the label.

(b) There are no line justifications for “Not Rated” or alternatively, “To Be Rated” in sections (e)(4)(iv), (e)(4)(vi), (e)(5)(iv), (e)(5)(vi), and (e)(6)(iii). In this final rule, we will specify that both “Not Rated” and “To Be Rated”, and the to-be-determined star ratings be left justified and be aligned horizontally and vertically on the label. Therefore, these paragraphs read as follows:

Section 575.301(e)(4)(iv)—If NHTSA has not released the star rating for the “Driver” position, the text “Not Rated” must be used in boldface. However, as an alternative, the words “To Be Rated” (in boldface) may be used if the manufacturer has received written notification from NHTSA that the vehicle has been chosen for NCAP testing. Both texts must be on the same line as the text “Driver”, be left justified, and be aligned to the right side of the label.

Section 575.301(e)(4)(vi)—If NHTSA has not released the star rating for “Passenger”, the words “Not Rated” must be used in boldface. However, as an alternative, the words “To Be Rated” (in boldface) may be used if the manufacturer has received written notification from NHTSA that the vehicle has been chosen for NCAP testing. Both texts must be on the same line as the text “Passenger”, be left justified, and be aligned to the right side of the label.

Section 575.301(e)(5)(iv)—If NHTSA has not released the star rating for “Front seat”, the words “Not Rated” must be used in boldface. However, as an alternative, the words “To Be Rated” (in boldface) may be used if the manufacturer has received written notification from NHTSA that the vehicle has been chosen for NCAP testing. Both texts must be on the same line as the text “Front seat”, be left justified, and be aligned to the right side of the label.

Section 575.301(e)(5)(vi)—If NHTSA has not released the star rating for “Rear seat”, the text “Not Rated” must be used in boldface. However, as an alternative, the text “To Be Rated” (in boldface) may be used if the manufacturer has received written notification from NHTSA that the vehicle has been chosen for NCAP testing. Both texts must be on the same line as the text “Rear seat”, be left justified, and be aligned to the right side of the label.

Section 575.301(e)(6)(iii)—If NHTSA has not tested the vehicle, the words “Not Rated” must be used in boldface. However, as an alternative, the words “To Be Rated” (in boldface) may be used if the manufacturer has received written notification from NHTSA that the vehicle has been chosen for NCAP testing. Both texts must be on the same line as the text “Rollover”, be left justified, and be aligned to the right side of the label.

Finally, in § 575.301(3)(8)(B), the regulatory text will include a period at the end of the phrase to read: “Source: National Highway Traffic Safety Administration (NHTSA).”

B. Small Safety Label Shown in Figure 2

The following changes are made in this final rule to make the regulatory text consistent with the Small Safety Label shown in Figure 2:

(a) Since the border for the small safety label is not specified in the regulatory text, we will add at the end of § 575.301(f)(2), “and must be surrounded by a solid dark line that is a minimum of 3 points in width.”

(b) The justification for the text is not specified and the font size is incorrect. Therefore, the text of § 575.301(f)(4) is amended to read:

Section 575.301(f)(4) General Information. The general information area must be below the header area. The text must be dark and the background must be light. The text must state the following, in at least 12-point font, be left justified, and be aligned to the left side of the label, in the specified order:

(c) In § 575.301(f)(3) and (f)(5), 14-point, not 12-point font should be specified for the header and footer areas to make the smaller label header and footer areas identical to that of the larger label.

IV. Rulemaking Analyses and Notices

The final rule of September 12, 2006 included discussion of Executive Order 12866 and DOT Regulatory Policies and Procedures, the Regulatory Flexibility Act, Paperwork Reduction Act, National Environmental Policy Act, Executive Order 13132 (Federalism), Civil Justice Reform Act, the National Technology Transfer and Advancement Act, and the Unfunded Mandates Reform Act. Today's final rule consists only of technical amendments. Thus, the rulemaking analyses and notices discussion provided for the September 2006 is not affected by today's final rule.

List of Subjects in 49 CFR Part 575

Consumer protection, Motor vehicle safety, Reporting and recordkeeping requirements, Tires.

In consideration of the foregoing, 49 CFR part 575 is amended to read as follows:

PART 575—CONSUMER INFORMATION

1. The authority citation for part 575 continues to read as follows:

Authority: 49 U.S.C. 32302, 30111, 30115, 30117, 30166, and 30168, Pub. L. 104-414, 114 Stat. 1800, Pub. L. 109-59, 119 Stat. 1144, 15 U.S.C. l232(g); delegation of authority at 49 CFR 1.50.

2. Section 575.301 is amended by:

a. Revising paragraph (b);

b. Revising paragraph (e)(4)(iii);

c. Adding in paragraph (e)(4)(iv) a third sentence;

d. Revising paragraph (e)(4)(v);

e. Adding in paragraph (e)(4)(vi) a third sentence;

f. Revising paragraph (e)(5)(iii);

g. Adding in paragraph (e)(5)(iv) a third sentence;

h. Revising paragraph (e)(5)(v);

i. Adding in paragraph (e)(5)(vi) a third sentence;

j. Adding in paragraph (e)(6)(iii) a third sentence;

k. Revising paragraph (e)(10)(ii);

l. Revising paragraph (f)(2);

m. Revising paragraph (f)(3);

n. Revising in paragraph (f)(4) the third sentence; and

o. Revising in paragraph (f)(5) the first sentence, to read as follows:

§ 575.301 Vehicle Labeling of Safety Rating Information.

* * * * *

(b) Application. This section applies to automobiles with a GVWR of 10,000 pounds or less, manufactured on or after September 1, 2007, that are required by the Automobile Information Disclosure Act, 15 U.S.C. 1231-1233, to have price sticker labels (Monroney labels), e.g., passenger vehicles, station wagons, passenger vans, and sport utility vehicles.

* * * * *

(e) * * *

(4) * * *

(iii) The word “Driver” must be on the same line as the word “Frontal” in “Frontal Crash,” and be left justified, horizontally centered and vertically aligned at the top of the label. The achieved star rating for “Driver” must be on the same line, left justified, and aligned to the right side of the label.

(iv) * * * Both texts must be on the same line as the text “Driver”, left justified, and aligned to the right side of the label.

(v) The word “Passenger” must be on the same line as the word “Crash” in “Frontal Crash,” below the word “Driver,” and be left justified, horizontally centered and vertically aligned at the top of the label. The achieved star rating for “Passenger” must be on the same line, left justified, and aligned to the right side of the label.

(vi) * * * Both texts must be on the same line as the text “Passenger”, left justified, and aligned to the right side of the label.

* * * * *

(5) * * *

(iii) The words “Front seat” must be on the same line as the word “Side” in “Side Crash” and be left justified, horizontally centered and vertically aligned in the middle of the label. The achieved star rating for “Front seat” must be on the same line, left justified, and aligned to the right side of the label.

(iv) * * * Both texts must be on the same line as the text “Front seat”, left justified, and aligned to the right side of the label.

(v) The words “Rear seat” must be on the same line as the word “Crash” in “Side Crash,” below the word “Front seat,” and be left justified, horizontally centered and vertically aligned in the middle of the label. The achieved star rating for “Rear seat” must be on the same line, left justified, and aligned to the right side of the label.

(vi) * * * Both texts must be on the same line as the text “Rear seat”, left justified, and aligned to the right side of the label.

* * * * *

(6) * * *

(iii) * * * Both texts must be on the same line as the text “Rollover”, left justified, and aligned to the right side of the label.

* * * * *

(10) * * *

(ii) Include at the bottom of the relevant area (i.e., frontal crash area, side crash area, rollover area), as the last line of that area, the related symbol, as depicted in Figure 4 of this section, as a superscript of the rest of the line, and the text “Safety Concern: Visit www.safercar.gov or call 1-888-327-4236 for more details.”

* * * * *

(f) * * *

(2) The label must be at least 4½ inches in width and 1½ inches in height, and must be surrounded by a solid dark line that is a minimum of 3 points in width.

(3) Heading Area. The text must read “Government Safety Ratings” and be in 14-point boldface, capital letters that are light in color, and be centered. The background must be dark.

(4) General Information. * * * The text must state the following, in at least 12-point font, be left-justified, and aligned to the left side of the label, in the specified order:

* * * * *

(5) Footer Area. The text “www.safercar.gov or 1-888-327-4236” must be provided in 14-point boldface letters that are light in color, and be centered. * * *

* * * * *

Issued on: August 7, 2007.
Nicole R. Nason,
Administrator.

[FR Doc. E7-15743 Filed 8-10-07; 8:45 am]

BILLING CODE 4910-59-P